FEDERAL COMMUNICATIONS COMMISSION

47 CFR Part 73

[MB Docket No. 22-114; RM-11920; DA 22-539; FR ID 88331]

Television Broadcasting Services Bozeman, Montana

AGENCY: Federal Communications Commission.

ACTION: Final rule.

SUMMARY: On March 10, 2022, the Media Bureau, Video Division (Bureau) issued a Notice of Proposed Rulemaking (NPRM) in response to a petition for rulemaking filed by Scripps Broadcasting Holdings LLC (Petitioner), the licensee of KBZK (Station), channel 13, Bozeman, Montana, requesting the substitution of channel 27 for channel 13 at Bozeman in the Table of Allotments. For the reasons set forth in the Report and Order referenced below, the Bureau amends FCC regulations to substitute channel 27 for channel 13 at Bozeman.

DATES: Effective May 24, 2022.

FOR FURTHER INFORMATION CONTACT: Joyce Bernstein, Media Bureau, at (202) 418-1647 or Joyce.Bernstein@fcc.gov.

SUPPLEMENTARY INFORMATION: The proposed rule was published at 87 FR 16158 on March 22, 2022. The Petitioner filed comments in support of the petition reaffirming its commitment to apply for channel 27. No other comments were filed.

According to the Petitioner, it has received many complaints from viewers unable to receive a reliable signal on VHF channel 13, and the Commission has recognized that VHF channels have certain characteristics that pose challenges for their use in providing digital television service. The proposed channel 27 contour would continue to reach virtually all of the population within the Station's current service area and an analysis using the Commission's TVStudy software tool indicates that KBZK's move from channel 13 to channel 27 is predicted to create a small area where 675 persons will lose service. The loss area, however, is partially overlapped by the noise limited contour of Scripps' owned television station KXLF-TV, Butte, Montana, which, like KBZK, is a CBS network affiliate. Taking KXLF-TV into consideration reduces the number who are predicted to lose CBS network service to less than 500 persons, a number which the Commission has found to be de minimis. In addition, viewers in the loss area would continue to have access to other major network programming.

This is a synopsis of the Commission's Report and Order, MB Docket No. 22-114; RM-11920; DA 22-539, adopted May 17, 2022, and released May 17, 2022. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(j), amend the Table of Allotments, under Montana, by revising the entry for “Bozeman” to read as follows:

§ 73.622 Digital television table of allotments.

* * * * *

(j) * * *

Community | Channel No.
* * * * *
MONTANA
* * * * *
Bozeman | * 8, 27
* * * * *

[FR Doc. 2022-11031 Filed 5-23-22; 8:45 am]

BILLING CODE 6712-01-P